ENVIRONMENTAL PROTECTION AGENCY

[OEI-2003-0034; FRL-7595-7]

Establishment of a New System of Records Notice for the Integrated Grants Management System

AGENCY: Environmental Protection Agency.

ACTION: Notice.

SUMMARY: Pursuant to the provisions of the Privacy Act of 1974 (5 U.S.C. 552a), the Office of Grants and Debarment is giving notice that it proposes to establish a new system of records, Integrated Grants Management System, Fellowship Module. This system of records is an automated information and award process used to review applications, determine eligibility and produce Fellowship award documents.

DATES: The proposed notice will be effective without further notice on January 20, 2004.

ADDRESSES: Questions regarding this notice should be referred to Kathie Herrin, Office of Grants and Debarment, Ronald Reagan Building, 1200 Pennsylvania Ave NW., Washington, DC 20460.

FOR FURTHER INFORMATION CONTACT: Kathie Herrin, on (202) 564-5346.

SUPPLEMENTARY INFORMATION:

I. General Information

The EPA Integrated Grants Management System (IGMS)—Fellowship Module system of records does not duplicate any existing Fellowship system of records. Details regarding the new system of records are contained in this Federal Register Notice. The new system is an automated information and award process used to review applications, determine eligibility and produce Fellowship award documents. The system does not change how the privacy of individuals is affected because release of Privacy Act protected information is handled in the same manner regardless of whether the information is contained in an electronic or hard copy form. Access to the system is restricted to authorized users and will be maintained in a secure, password protected computer system, in secure areas and buildings with physical access controls and environmental controls. The system is maintained by the Office of Grants and Debarment under the Office of Administration and Resources Management.

EPA has established an official public docket for this action under Docket ID No. OEI-2003-0034. The official public docket is the collection of materials that is available for public viewing at the OEI Docket in the EPA Docket Center, (EPA/DC) EPA West, Room B102, 1301 Constitution Ave. NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above.

Dated: October 31, 2003.
Kimberly T. Nelson,
Assistant Administrator, and Chief Information Officer.

EPA-53

System Name:

Integrated Grants Management System (IGMS)—Fellowship Module.

Security Classification:

None.

System Location:

Office of Grants and Debarment, Environmental Protection Agency, Ronald Reagan Building, 1200 Pennsylvania Avenue, NW., Washington, DC 20460.

Categories of Individuals Covered by the System:

Individuals (principle investigators and fellows) who request or have previously requested support from the EPA Fellowship programs, either individually or through an academic institution.

Categories of Records in the System:

Fellow information includes name, social security number, address, name and address of sponsor school, and name of school advisor. Fellowship project information includes award date, duration, statutory and regulatory authorities, CFDA, and fiscal data. EPA contact information includes fellowship specialist and project officer.

Authority for Maintenance of the System:

Federal Grant and Cooperative Agreement Act, 31 U.S.C. 6301 et seq.; Clean Air Act, 42 U.S.C. 1857 et seq.; Federal Water Pollution Control Act, 33 U.S.C. 1254 et seq.; Public Health Service Act, 42 U.S.C. 241 et seq.; Solid Waste Disposal Act, 42 U.S.C. 6901 et seq.; Federal Insecticide, Fungicide, and Rodenticide Act, 7 U.S.C. 136 et seq.; Safe Drinking Water Act, 42 U.S.C. 300j-1; Toxic Substances Control Act, 15 U.S.C. 2609, Comprehensive Environmental Response, Compensation, and Liability Act, 42 U.S.C. 9660.

Purpose(s):

To assist EPA in conducting and documenting the receipt and review of applications and award of fellowship grants in response to solicitations issued by EPA program offices.

Routine uses of Records Maintained in the System Including Categories of Users and the Purposes of Such Uses:

General routine uses A, B, C, D, E, F, G, H, and K apply to this system.

Policies and Practices for Storing, Retrieving, Accessing, Retaining, and Disposing of Records in the System:

Storage:

Electronic databases and hard copy files.

Retrievability:

Electronic files may be retrieved by all data elements in the database.

Safeguards:

Electronic records are maintained in a secure, password protected electronic system. Paper records are maintained in locked file cabinets. All records are maintained in secure, access-controlled areas or buildings.

Retention and Disposal:

Paper copies of awarded proposals are transferred to the Federal Records Center one year after closeout where they are retained for an additional six years in accordance with EPA records schedule 003 as approved by the National Archives and Records Administration. Electronic data will be retained and disposed of in accordance with EPA records schedule 009 pending approval by the National Archives and Records Administration.

System Manager(s) Address and Telephone Number:

Kathie Herrin, Office of Grants and Debarment, Environmental Protection Agency, Ronald Reagan Building, 1200 Pennsylvania Avenue NW, Washington, DC 20460; (202) 564-5346.

Notification Procedure:

Any individual who wants to know whether this system of records contains a record about him or her, who wants access to his or her record, or who wants to contest the contents of a record, should make a written request to the System Manager. Complete EPA Privacy Act procedures are set out in 40 CFR part 16.

Record Access Procedures:

Requesters will be required to provide adequate identification, such as a driver's license, employee identification card, or other identifying document. Additional identification procedures may be required in some instances.

Contesting Records Procedures:

Requests for correction or amendment must identify the record to be changed and the corrective action sought. Complete EPA Privacy Act procedures are set out in 40 CFR part 16.

Record Source Categories:

Academic institutions, principal investigators, applicants, and EPA and other Federal agency personnel.

System Exempted From Certain Provisions of the Act:

None.

[FR Doc. 03-30372 Filed 12-5-03; 8:45 am]

BILLING CODE 6560-50-P